DEPARTMENT OF LABOR

Occupational Safety and Health Administration

[Docket No. OSHA-2007-0041]

FM Approvals LLC: Applications for Expansion of Recognition and Proposed Modification to the NRTL Program's List of Appropriate Test Standards

AGENCY: Occupational Safety and Health Administration (OSHA), Labor.

ACTION: Notice.

SUMMARY: In this notice, OSHA announces the applications of FM Approvals LLC for expansion of recognition as a Nationally Recognized Testing Laboratory (NRTL) and presents the agency's preliminary finding to grant the applications. Additionally, OSHA proposes to add fourteen test standards to the NRTL Program's list of appropriate test standards.

DATES: Submit comments, information, and documents in response to this notice, or requests for an extension of time to make a submission, on or before December 6, 2023.

ADDRESSES: Comments may be submitted as follows:

Electronically: You may submit comments, including attachments, electronically at http://www.regulations.gov, the Federal eRulemaking Portal. Follow the online instructions for submitting comments.

Instructions: All submissions must include the agency's name and the docket number for this rulemaking (Docket No. OSHA-2007-0043). All comments, including any personal information you provide, are placed in the public docket without change and may be made available online at https://www.regulations.gov. Therefore, OSHA cautions commenters about submitting information they do not want made available to the public, or submitting materials that contain personal information (either about themselves or others), such as Social Security numbers and birthdates.

Docket: To read or download comments or other material in the docket, go to http://www.regulations.gov. Documents in the docket (including this Federal Register notice) are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Extension of comment period: Submit requests for an extension of the comment period on or before December 6, 2023 to the Office of Technical Programs and Coordination Activities, Directorate of Technical Support and Emergency Management, Occupational Safety and Health Administration, U.S. Department of Labor, 200 Constitution Avenue NW, Room N-3653, Washington, DC 20210, or by fax to (202) 693-1644.

FOR FURTHER INFORMATION CONTACT: Information regarding this notice is available from the following sources:

Press inquiries: Contact Mr. Frank Meilinger, Director, OSHA Office of Communications, U.S. Department of Labor by phone: (202) 693-1999 or email: meilinger.francis2@dol.gov.

General and technical information: Contact Mr. Kevin Robinson, Director, Office of Technical Programs and Coordination Activities, Directorate of Technical Support and Emergency Management, Occupational Safety and Health Administration, U.S. Department of Labor by phone: (202) 693-1911 or email: robinson.kevin@dol.gov.

SUPPLEMENTARY INFORMATION:

I. Notice of the Applications for Expansion

OSHA is providing notice that FM Approvals LLC (FM) is applying for an expansion of current recognition as a NRTL. FM requests the addition of fourteen test standards to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including FM, which details the NRTL's scope of recognition. These pages are available from the OSHA website at https://www.osha.gov/nationally-recognized-testing-laboratory-program.

FM currently has two facilities (sites) recognized by OSHA for product testing and certification, with the headquarters located at: FM Approvals LLC, 1151 Boston-Providence Turnpike, Norwood, Massachusetts 02062. A complete list of FM's scope of recognition is available at https://www.osha.gov/nationally-recognized-testing-laboratory-program.

II. General Background on the Applications

FM submitted two applications to OSHA to expand recognition as a NRTL. The first application was submitted on September 20, 2019 (OSHA-2007-0041-0021), to include ten test standards. The second application requesting the addition of six standards was submitted on May 3, 2021, (OSHA-2007-0041-0022). The first application was amended on September 21, 2022 (OSHA-2007-0041-0023), to remove two standards from the original submission. The expansion covered in this notice includes the remaining fourteen standards across both applications. OSHA staff performed a detailed analysis of the application packets and reviewed other pertinent information. OSHA did not perform any on-site reviews in relation to these applications.

Table 1 lists the appropriate test standards found in FM's applications for expansion for testing and certification of products under the NRTL Program.

Table 1—Proposed List of Appropriate Test Standards for Inclusion in FM's NRTL Scope of Recognition
Test standard | Test standard title
*FM 1311 | Centrifugal Fire Pumps Split-Case Type (Axial or Radial).
*FM 1312 | Centrifugal Fire Pumps (Vertical Shaft, Turbine Type).
*FM 1313 | Positive Displacement Fire Pumps (Rotary Gear Type).
*FM 1319 | Centrifugal Fire Pumps (Horizontal, End Suction Type).
*FM1370 | Centrifugal Fire Pumps (Vertical Shaft, Turbine Type, Barrel).
*FM 1371 | Centrifugal Fire Pumps (In-Line Type).
*FM 3132 | Pressure Actuated Waterflow Switches.
*FM 3150 | Audible Notification Appliances for Automatic Fire Alarm Signaling.
*FM 3155 | Public Mode Visible Signaling Appliances for Automatic Fire Alarm Signaling.
*FM 3230 | Smoke Actuated Detectors for Automatic Fire Alarm Signaling.
*FM 3232 | Video Image Fire Detectors for Automatic Fire Alarm Signaling.
*FM 5320 | Dry Chemical Extinguishing Systems.
*FM 5420 | Carbon Dioxide Extinguishing Systems.
*FM 5600 | Clean Agent Extinguishing Systems.
* Represents the standards that OSHA proposes to add to the NRTL Program's List of Appropriate Test Standards.

III. Proposal To Add New Test Standards to the NRTL Program's List of Appropriate Test Standards

Periodically, OSHA will propose to add new test standards to the NRTL list of appropriate test standards following an evaluation of the test standard document. To qualify as an appropriate test standard, the agency evaluates the document to (1) verify it represents a product category for which OSHA requires certification by a NRTL, (2) verify the document represents a product and not a component, and (3) verify the document defines safety test specifications (not installation or operational performance specifications). OSHA becomes aware of new test standards through various avenues. For example, OSHA may become aware of new test standards by: (1) monitoring notifications issued by certain Standards Development Organizations; (2) reviewing applications by NRTLs or applicants seeking recognition to include new test standard in their scopes of recognition; and (3) obtaining notification from manufacturers, manufacturing organizations, government agencies, or other parties. OSHA may determine to include a new test standard in the list, for example, if the test standard is for a particular type of product that another test standard also covers, or it covers a type of product that no standard previously covered.

In this notice, OSHA proposes to add fourteen new test standards to the NRTL Program's list of appropriate test standards. Table 2, below, lists the test standards that are new to the NRTL Program. OSHA preliminarily determined that these test standards are appropriate and proposes to include them in the NRTL Program's list of appropriate test standards. OSHA seeks public comment on this preliminary determination.

Table 2—Standards OSHA Is Proposing to Add to the NRTL Program's List of Appropriate Test Standards
Test standard | Test standard title
FM 1311 | Centrifugal Fire Pumps Split-Case Type (Axial or Radial).
FM 1312 | Centrifugal Fire Pumps (Vertical Shaft, Turbine Type).
FM 1313 | Positive Displacement Fire Pumps (Rotary Gear Type).
FM 1319 | Centrifugal Fire Pumps (Horizontal, End Suction Type).
FM1370 | Centrifugal Fire Pumps (Vertical Shaft, Turbine Type, Barrel).
FM 1371 | Centrifugal Fire Pumps (In-Line Type).
FM 3132 | Pressure Actuated Waterflow Switches.
FM 3150 | Audible Notification Appliances for Automatic Fire Alarm Signaling.
FM 3155 | Public Mode Visible Signaling Appliances for Automatic Fire Alarm Signaling.
FM 3230 | Smoke Actuated Detectors for Automatic Fire Alarm Signaling.
FM 3232 | Video Image Fire Detectors for Automatic Fire Alarm Signaling.
FM 5320 | Dry Chemical Extinguishing Systems.
FM 5420 | Carbon Dioxide Extinguishing Systems.
FM 5600 | Clean Agent Extinguishing Systems.

IV. Preliminary Findings on the Applications

FM submitted acceptable applications for expansion of the scope of recognition. OSHA's review of the application files, and pertinent documentation, indicate that FM can meet the requirements prescribed by 29 CFR 1910.7 for expanding the recognition to include the addition of these fourteen test standards for NRTL testing and certification listed above. This preliminary finding does not constitute an interim or temporary approval of FM's application.

V. Public Participation

OSHA welcomes public comment as to whether FM meets the requirements of 29 CFR 1910.7 for expansion of recognition as a NRTL. Comments should consist of pertinent written documents and exhibits.

Commenters needing more time to comment must submit a request in writing, stating the reasons for the request by the due date for comments. OSHA will limit any extension to 10 days unless the requester justifies a longer time period. OSHA may deny a request for an extension if it is not adequately justified.

To review copies of the exhibits identified in this notice, as well as comments submitted to the docket, contact the Docket Office, Occupational Safety and Health Administration, U.S. Department of Labor. These materials also are generally available online at https://www.regulations.gov under Docket No. OSHA-2007-0043 (for further information, see the “Docket” heading in the section of this notice titled ADDRESSES).

OSHA staff will review all comments to the docket submitted in a timely manner. After addressing the issues raised by these comments, staff will make a recommendation to the Assistant Secretary of Labor for Occupational Safety and Health on whether to grant FM's applications for expansion of the scope of recognition. The Assistant Secretary will make the final decision on granting the applications. In making this decision, the Assistant Secretary may undertake other proceedings prescribed in Appendix A to 29 CFR 1910.7.

OSHA will publish a public notice of the final decision in the Federal Register.

VI. Authority and Signature

James S. Frederick, Deputy Assistant Secretary of Labor for Occupational Safety and Health, 200 Constitution Avenue NW, Washington, DC 20210, authorized the preparation of this notice. Accordingly, the agency is issuing this notice pursuant to section 29 U.S.C. 657(g)(2), Secretary of Labor's Order No. 8-2020 (85 FR 58393; Sept. 18, 2020), and 29 CFR 1910.7.

Signed at Washington, DC.
James S. Frederick,
Deputy Assistant Secretary of Labor for Occupational Safety and Health.

[FR Doc. 2023-25683 Filed 11-20-23; 8:45 am]

BILLING CODE 4510-26-P